SMALL BUSINESS ADMINISTRATION

[Disaster Declaration #13586 and #13587]

Oklahoma Disaster Number OK-00071

AGENCY: U.S. Small Business Administration.

ACTION: Amendment 2.

SUMMARY: This is an amendment of the Presidential declaration of a major disaster for the State of Oklahoma (FEMA-4117-DR), dated 05/20/2013.

Incident: Severe Storms, Tornadoes and Flooding.

Incident Period: 05/18/2013 and continuing through 06/02/2013.

Effective Date: 06/11/2013.

Physical Loan Application Deadline Date: 07/19/2013.

EIDL Loan Application Deadline Date: 02/20/2014.

ADDRESSES: Submit completed loan applications to: U.S. Small Business Administration Processing, And Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: The notice of the President's major disaster declaration for the State of OKLAHOMA, dated 05/20/2013 is hereby amended to re-establish the incident period for this disaster as beginning 05/18/2013 and continuing through 06/02/2013 and expand the incident to include flooding.

All other information in the original declaration remains unchanged.

(Catalog of Federal Domestic Assistance Numbers 59002 and 59008)

Jerome Edwards,
Acting Associate Administrator for Disaster Assistance.

[FR Doc. 2013-14471 Filed 6-17-13; 8:45 am]

BILLING CODE 8025-01-P